NUCLEAR REGULATORY COMMISSION

Notice of Public Workshop for Rulemaking and Scoping for Environmental Issues on Controlling the Disposition of Solid Materials

AGENCY: Nuclear Regulatory Commission.

ACTION: Notice of public workshop.

SUPPLEMENTARY INFORMATION: As discussed in a Federal Register Notice (FRN) issued February 28, 2003, the Nuclear Regulatory Commission (NRC) is conducting an enhanced participatory rulemaking on alternatives for controlling the disposition of solid materials that originate in restricted or impacted areas of NRC-licensed facilities, and that have no, or very small amounts of, radioactivity resulting from licensed operations. As noted in that FRN, the NRC is seeking stakeholder participation and involvement in identifying alternatives and their environmental impacts that should be considered as part of the rulemaking. Considerable information collection effort has been conducted in this area and the Commission is building on existing information to focus on potential solutions. The NRC has not made a decision on the scope or details of a regulation and is continuing to develop a solid technical basis for the rulemaking.

To assist in obtaining stakeholder input to this process, the NRC is holding a workshop, on May 21-22, 2003, to solicit new input on the rulemaking alternatives with a focus on the feasibility of alternatives that would limit where the solid material can go. This workshop provides an opportunity to discuss the rulemaking effort as well as to re-open the National Environmental Policy Act (NEPA) scoping process that began in 1999 for the preparation of a generic environmental impact statement (EIS) in support of the control of the disposition of solid materials rulemaking effort. Issues raised in 1999, at public workshops and in public comments will be considered along with any new issues or alternatives identified at this workshop. The workshop will provide an opportunity for stakeholders to offer additional input on the alternatives, with particular focus on the alternatives of conditional use and EPA regulated landfill disposal. Earlier information collection efforts did not result in sufficient information to clearly indicate the viability or economic feasibility of these two alternatives. Thus, the Commission specifically directed the staff to explore and document the feasibility of these alternatives and, in particular, noted that the staff should have discussions with stakeholders with regard to whether the alternatives: (1) Are effective; (2) are reasonably possible to implement; and (3) would increase public confidence in the process.

To assure that a diversity of viewpoints on the alternatives will be presented, we are inviting stakeholders representing the metals and cement industries, citizens groups, Federal and State agencies, licensees, tribal governments, and landfill operators to sit in a roundtable discussion. Although the focus of the meeting will be on the roundtable discussion, there will be opportunities for members of the audience to offer comments and ask questions. To further assist stakeholders, the staff has placed on its Web site an information packet which includes questions for stakeholders on the alternatives and issues, describes how to provide comments to the NRC, and links to other documents. (Go to http://www.nrc.gov/materials.html and, under “Key Topics,” select “Controlling the Disposition of Solid Materials.”) Also, the workshop agenda, which is provided in this FRN, has been included on the Web page.

Workshop Details: This workshop will be held on May 21-22, 2003 from 8:30 a.m.—5:30 p.m. in the NRC Auditorium, 11545 Rockville Pike, Rockville, Maryland 20852.

Agenda

Wednesday, May 21, 2003

8:30 a.m. Opening remarks, participant introductions

Francis “Chip” Cameron, Facilitator

9:15 a.m. Welcome, Workshop Objectives

Martin J. Virgilio, Director, Office of Nuclear Material Safety and Safeguards

9:30 a.m. Background and context

NRC activities and plans—where are we now and how did we get here?

Frank Cardile, Office of Nuclear Material Safety and Safeguards

The NEPA process and potential alternatives for the disposition of solid materials

Phyllis Sobel and Frank Cardile, Office of Nuclear Material Safety and Safeguards

Participant questions

10:10 a.m. Break

10:30 a.m. The international regulatory framework

Gordon Linsley, IAEA

Participant questions

11:00 a.m. Participant discussion on the alternatives being considered on the disposition of solid materials

Perspectives include: paramount issues of concern to participants, updates on participant views on alternatives, other alternatives that have not been identified, and stakeholder participation and involvement in identifying alternatives and their environmental impacts.

12:00 p.m. Audience comments and questions

12:30 p.m. Lunch

1:30 p.m. Continued discussion of participant perspectives on the alternatives

2:30 p.m. The conditional use alternative

Participant discussion

Discussion topics: What criteria should guide the acceptability of conditional use from a public health and safety perspective? What type of conditional use might be acceptable? What is the feasibility of the conditional use alternative, i.e., are there any constraints or impediments to implementing this alternative? What types of regulatory controls may be necessary to ensure that any conditional use program will be effectively implemented? Is there any additional information that must be developed to fully evaluate this alternative?

3:30 p.m. Break

4:00 p.m. Continued discussion of the conditional use alternative

5:00 p.m. Audience comments and questions and review of the next day's agenda and adjourn

Thursday, May 22, 2003

8:30 a.m. Agenda check

8:45 a.m. Recap previous day's discussion

9:30 a.m. The disposal alternative

Participant discussion

Discussion topics: What criteria should guide the acceptability of disposal from a public health and safety perspective? What type of disposal might be acceptable, for example, RCRA Subtitle C or Subtitle D landfills, other types of disposal facilities? What is the feasibility of the disposal alternative, i.e., are there any constraints or impediments to implementing this alternative? What types of regulatory controls may be necessary to ensure that any disposal program will be effectively implemented? Is there any additional information that must be developed to fully evaluate this alternative?

10:30 a.m. Break

11:00 a.m. Continued discussion of the disposal alternative

12:15 p.m. Audience comments and questions

12:30 p.m. Lunch

1:30 p.m. Major recommendations

2:30 p.m. Audience comments and questions

3:00 p.m. Break

3:30 p.m. Major recommendations (continued): Participant discussion

4:45 p.m. Audience questions

5:15 p.m. Wrap up

Notification of Attendance: It is strongly encouraged that prospective participants contact NRC prior to the meeting to expedite the required security processing for NRC visitors. Contact Kim Karcagi, telephone: (301) 415-6701; e-mail: kxk2@nrc.gov, or Jayne McCausland, telephone: (301) 415-6219; e-mail: jmm2@nrc.gov, or Rose Conn, telephone: (301) 415-7438; e-mail: rmc@nrc.gov and submit participant name, affiliated organization, phone number, address, and citizenship status. Also, it is suggested that invited speakers as well as attendees, limit the amount of personal items and electronic devices brought into the building. If hardware from a participant, like a laptop, must be brought in, it has been suggested by security that a typed letter indicating the laptop's make, model, and owner's contact information be given to security staff upon arrival.

Travel Information: NRC Headquarters, where the public workshop will be held, is very accessible by public transportation. It is recommended that participants commute to the workshop via the Metrorail system (Metro). The White Flint Metro stop, along the red line, is adjacent to the One White Flint Building, along Rockville Pike and Marinelli Road. There are limited spaces available in the public meter parking and Metro parking lot along Marinelli Road. Due to security processing upon entrance into the building, it is recommended that attendees allot additional time to arriving at the workshop.

FOR FURTHER INFORMATION CONTACT: Questions on the public meeting process should be directed to Chip Cameron; e-mail: fxc@nrc.gov, telephone: (301) 415-1642; Office of the General Counsel, USNRC, Washington, DC 20555-0001. Questions on the rulemaking process should be directed to Frank Cardile, telephone: (301) 415-6185; e-mail: fpc@nrc.gov, Office of Nuclear Material Safety and Safeguards, USNRC, Washington, DC 20555-0001. Questions on the environmental scoping process should be directed to Phyllis Sobel; e-mail: pas@nrc.gov, telephone: (301) 415-6714; Office of Nuclear Material Safety and Safeguards, USNRC, Washington, DC 20555-0001.

Dated at Rockville, Maryland, this 11th day of April, 2003.
For the Nuclear Regulatory Commission.
Charles L. Miller,
Director, Division of Industrial and Medical Nuclear Safety, Office of Nuclear Material Safety and Safeguards.

[FR Doc. 03-9603 Filed 4-17-03; 8:45 am]

BILLING CODE 7590-01-P